DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation and are new, modified, discontinued, or completed since the last publication of this notice on June 24, 2009. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Water and Environmental Resources Office, Bureau of Reclamation, PO Box 25007, Denver, Colorado 80225-0007; telephone 303-445-2888.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) the significance of the modification, and (ii) the degree of public interest which has been expressed over the course of the negotiations. At a minimum, the regional director shall furnish revised contracts to all parties who requested the contract in response to the initial public notice.

Definitions of Abbreviations Frequently Used in This Document

ARRA American Recovery and Reinvestment Act of 2009

BCP Boulder Canyon Project

Reclamation Bureau of Reclamation

CAP Central Arizona Project

CVP Central Valley Project

CRSP Colorado River Storage Project

FR Federal Register

IDD Irrigation and Drainage District

ID Irrigation District

M&I Municipal and Industrial

NMISC New Mexico Interstate Stream Commission

O&M Operation and Maintenance

P-SMBP Pick-Sloan Missouri Basin Program

PPR Present Perfected Right

RRA Reclamation Reform Act of 1982

SOD Safety of Dams

SRPA Small Reclamation Projects Act of 1956

USACE U.S. Army Corps of Engineers

WD Water District

Pacific Northwest Region: Bureau of Reclamation, 1150 North Curtis Road, Suite 100, Boise, Idaho 83706-1234, telephone 208-378-5344.

Modified Contract Actions

8. Greenberry ID, Willamette Basin Project, Oregon: Irrigation water service contract for approximately 10,000 acre-feet of project water.

10. Five irrigation water user entities, Rogue River Basin Project, Oregon: Long-term contracts for exchange of water service with five entities for the provision of up to 1,163 acre-feet of stored water from Applegate Reservoir (a USACE project) for irrigation use in exchange for the transfer of out-of-stream water rights from the Little Applegate River to instream flow rights with the State of Oregon for instream flow use. This item was mistakenly listed as completed in the May 9, 2008, FR.

Completed Contract Action

10. Six irrigation water user entities, Rogue River Basin Project, Oregon: Long-term contracts for exchange of water service with six entities for the provision of up to 4,141 acre-feet of stored water from Applegate Reservoir (a USACE project) for irrigation use in exchange for the transfer of out-of-stream water rights from the Little Applegate River to instream flow rights with the State of Oregon for instream flow use. This item was mistakenly listed as completed in the May 9, 2008, FR. One contract for up to 2,978 acre-feet of water has been executed.

Mid-Pacific Region: Bureau of Reclamation, 2800 Cottage Way, Sacramento, California 95825-1898, telephone 916-978-5250.

New Contract Actions

39. California Department of Fish and Game, CVP, California: Proposed renewal of a water service contract for the Department's San Joaquin Fish Hatchery. Contract would allow 35 cubic feet per second of continuous flow to pass through the Hatchery prior to it returning to the San Joaquin River.

40. Cachuma Operation and Maintenance Board, Cachuma Project, California: Amendment to SOD contract No. 01-WC-20-2030 to provide for increased SOD costs associated with Bradbury Dam.

41. Contractors from the Friant Division, CVP, California: Contracts to be negotiated and executed with existing Friant long-term contractors for the conversion from water service contracts entered into pursuant to subsections 9(c) and 9(e) of the Reclamation Projects Act of 1939 to repayment contracts pursuant to subsection 9(d) of the Reclamation Projects Act of 1939. This action is intended to satisfy the mandate set forth in section 10010 of Title X of the Omnibus Public Land Management Act of 2009. Negotiations are scheduled to begin late July 2009.

Modified Contract Action

2. Contractors from the American River Division, Cross Valley Canal, San Felipe Division, West San Joaquin Division, Delta Division, and Elk Creek Community Services District; CVP; California: Renewal of 29 long-term water service contracts; water quantities for these contracts total in excess of 2.1M acre-feet. These contract actions will be accomplished through long-term renewal contracts pursuant to Public Law 102-575. Prior to completion of negotiation of long-term renewal contracts, existing interim renewal water service contracts may be renewed through successive interim renewal of contracts. Execution of long-term renewal contracts have been completed for the Friant, Shasta, and Trinity River Divisions and are nearly completed for the Delta Division. Long-term renewal contract execution is continuing for the other contractors.

Discontinued Contract Action

32. Cawelo WD and Lindsay-Strathmore ID, CVP, California: Long-term Warren Act contract for conveying nonproject water for a non-CVP contractor. This action is a duplicate item.

Lower Colorado Region: Bureau of Reclamation, PO Box 61470 (Nevada Highway and Park Street), Boulder City, Nevada 89006-1470, telephone 702-293-8192.

New Contract Actions

22. Clark County, BCP, Nevada: Agreement with Clark County for an annual diversion of up to 50 acre-feet of Colorado River water from Reclamation's Secretarial Reservation Entitlement for use on Reclamation land that is managed by Clark County and is part of the Laughlin Regional Heritage Greenway Train Project. Specifically, the water will be used for a natural bathing area (lagoon), construction, dust control, and riparian revegetation, which are all features of the Reclamation-approved Project.

23. ChaCha, LLC, Arizona, BCP: Partial assignment of the water delivery contract with ChaCha, LLC for transfer of ownership of 50 percent of the land within ChaCha LLC's contract service area. ChaCha LLC's 50 percent ownership will transfer to the following entities (undivided interest): Befra Farming, LLC, a California limited liability company; R&R Almond Orchards, Inc., a California corporation; and XLNT, LLC, a California limited liability company.

Completed Contract Action

6. Chacha AZ, LLC, BCP, Arizona: Contract for 2,100 acre-feet per year of fourth priority water for agricultural purposes, as recommended by the Arizona Department of Water Resources. Contract executed on May 1, 2009.

Upper Colorado Region: Bureau of Reclamation, 125 South State Street, Room 6107, Salt Lake City, Utah 84138-1102, telephone 801-524-3864.

New Contract Actions

1. (g) Charles Weaver, Aspinall Storage Unit, CRSP: Mr. Weaver has requested a 40-year water service contract for 1 acre-foot of M&I water out of Blue Mesa Reservoir, which requires Mr. Weaver to present a Plan of Augmentation to the Division 4 Water Court.

33. Pine Glen, LLC, Mancos Project, Colorado: Pine Glen LLC has requested a new carriage contract to replace existing contract No. 14-06-400-4901, assignment No. 6. The new contract is the result of a property sale. Remaining interest in the existing assignment is for 0.56 cubic feet per second of nonproject water to be carried through Mancos Project facilities.

34. Navajo-Gallup Water Supply Project, New Mexico: Repayment contract with the City of Gallup for up to 7,500 acre-feet per year of M&I water. Contract terms to be consistent with the Northwestern New Mexico Rural Water Projects Act (Title X of Pub. L. 111-11).

35. Navajo-Gallup Water Supply Project, New Mexico: Repayment contract with the Jicarilla Apache Nation for up to 1,200 acre-feet per year of M&I water. Contract terms to be consistent with the Northwestern New Mexico Rural Water Projects Act (Title X of Pub. L. 111-11).

36. Northwestern New Mexico Rural Water Projects Act, New Mexico: Settlement contract with the Navajo Nation for up to 530,650 acre-feet per year of irrigation and M&I water. Contract terms to be consistent with the Northwestern New Mexico Rural Water Projects Act (Title X of Pub. L. 111-11).

37. Navajo-Gallup Water Supply Project, New Mexico: Cost-sharing agreement with the State of New Mexico. Contract terms to be consistent with the Northwestern New Mexico Rural Water Projects Act (Title X of Pub. L. 111-11).

Discontinued Contract Actions

1. (a) Camp Id-Ra-Ha-Je West Association, Aspinall Storage Unit, CRSP: Camp Id-Ra-Ha-Je West Association has requested a 40-year water service contract for 1 acre-foot of M&I water out of Blue Mesa Reservoir, which requires Camp Id-Ra-Ha-Je West Association to present a Plan of Augmentation to the Division 4 Water Court.

Completed Contract Actions

1. (e) Horse Meadows Home Owners Association, Aspinall Unit, CRSP: The Association has requested a 40-year water service contract for 1 acre-foot of M&I water out of Blue Mesa Reservoir, which requires the Association to present a Plan of Augmentation to the Division 4 Water Court. Contract was executed April 29, 2009.

1. (f) David Beaulieu, Aspinall Storage Unit, CRSP: Mr. Beaulieu has requested a 40-year water service contract for 1 acre-foot of M&I water out of Blue Mesa Reservoir, which requires Mr. Beaulieu to present a Plan of Augmentation to the Division 4 Water Court. Contract was executed April 1, 2009.

25. Florida Water Conservancy District, Florida Project, Colorado: The District has requested a long-term water service contract for 114 acre-feet of water for project purposes to be used in Plans of Augmentation and Substitute Water Supply Plans from the Florida Project. Contract was executed April 2, 2009.

28. Glen, Michael D, and Tambra Spencer; Mancos Project; Colorado: The parties have requested a new carriage contract to replace existing contract No. 02-WC-40-8290. Existing carriage contract is for 1 cubic foot per second of nonproject water to be carried through Mancos Project facilities. The new contract will add 2 cubic feet per second to the existing quantity for a total of 3 cubic feet per second. Contract was executed May 14, 2009.

31. City of Santa Fe and Reclamation: Contract to store up to 50,000 acre-feet of San Juan-Chama Project Water in Elephant Butte Reservoir for a 40-year maximum term. This action is a duplicate item.

Great Plains Region: Bureau of Reclamation, PO Box 36900, Federal Building, 316 North 26th Street, Billings, Montana 59101, telephone 406-247-7752.

New Contract Actions

45. Green Mountain Reservoir, Colorado-Big Thompson Project, Colorado: Consideration of a request for a long-term contract for the use of excess capacity in Green Mountain Reservoir in the Colorado-Big Thompson Project.

46. Municipal Recreation Contract out of Granby Reservoir, Colorado-Big Thompson Project, Colorado: Water service contract for delivery of 5,412.5 acre-feet of water annually out of Lake Granby to the 15-Mile Reach.

47. Rocky Mountain National Park, Colorado-Big Thompson Project, Colorado: Amendment to the existing memorandum of understanding for project water.

48. Glen Elder ID; Glen Elder Unit, P-SMBP; Kansas: Intent to enter into a contract for repayment of extraordinary maintenance work on the spillway structure in accordance with the ARRA.

49. Mirage Flats ID, Mirage Flats Project, Nebraska: Request to amend contract to change billing date from May to July.

50. Glen Elder ID; Glen Elder Unit, P-SMBP; Kansas: Renewal of long-term water service contract.

51. State of Kansas Department of Wildlife and Parks; Glen Elder Unit, P-SMBP; Kansas: Reclamation is contemplating a contract for the remaining conservation storage in Waconda Lake.

Modified Contract Actions

3. Ruedi Reservoir, Fryingpan-Arkansas Project, Colorado: Second round water sales from the regulatory capacity of Ruedi Reservoir. Water service and repayment contracts for up to 17,000 acre-feet annually.

Discontinued Contract Actions

18. City of Golden, Colorado-Big Thompson Project, Colorado: Consideration of a request for a long-term agreement for power interference in the Colorado-Big Thompson Project.

Completed Contract Actions

6. Dickinson Parks and Recreation District; Dickinson Unit, P-SMBP; North Dakota: A temporary contract has been negotiated with the District for minor amounts of water from Dickinson Reservoir. Negotiate a long-term water service contract for minor amounts of water from Dickinson Reservoir. Contract was executed May 26, 2009.

26. Individual Irrigators; Canyon Ferry Unit, P-SMBP; Montana: Replace temporary 1-year contracts with long-term water service contracts for minor amounts of less than 1,000 acre-feet of irrigation water annually from the Missouri River below Canyon Ferry Dam. Contracts executed June 10, 2009.

Dated: July 2, 2009.
Roseann Gonzales,
Director, Policy and Program Services Denver Office.

[FR Doc. E9-18605 Filed 8-3-09; 8:45 am]

BILLING CODE 4310-MN-P